DEPARTMENT OF AGRICULTURE

Forest Service

Modac County RAC Meetings

AGENCY: Forest Service, USDA.

ACTION: Notice of Modoc County RAC meetings.

SUMMARY: Pursuant to the authorities in the Federal Advisory Committees Act (Pub. L. 92-463) and under the Secure Rural Schools and Community Self-Determination Act of 2000 (Pub. L. 106-393), the Modoc National Forest's Modoc County Resource Advisory Committee will meet Monday October 6, 2003, from 6 to 8 p.m. in Alturas, California. The meetings are open to the public.

SUPPLEMENTARY INFORMATION: Agenda topics for the meeting include approval of the August 11 minutes, review of Modoc County Board of Supervisor's approval of projects for 2003 RAC funds, and reprioritization of projects if needed. The meeting will be held at Modoc National Forest Office, Conference Room, 800 West 12th St., Alturas, California on Monday, October 6, 2003 from 6 to 8 p.m. Time will be set aside for public comments at the beginning of the meeting.

FOR FURTHER INFORMATION CONTACT: Contact Forest Supervisor Stan Sylva, at (530) 233-8700; or Public Affairs Officer Nancy Gardner at (530) 233-8713.

Stanley G. Sylva,
Forest Supervisor.

[FR Doc. 03-24267 Filed 9-24-03; 8:45 am]

BILLING CODE 3410-11-P